DEPARTMENT OF AGRICULTURE

Forest Service

Notice of Proposed New Fee Sites

AGENCY: Forest Service, Agriculture (USDA).

ACTION: Notice of proposed new fee sites.

SUMMARY: The Prescott National Forest is proposing to charge new fees at multiple recreation sites listed in SUPPLEMENTARY INFORMATION of this notice. Funds from fees would be used for operation, maintenance, and improvements of these recreation sites. An analysis of nearby developed recreation sites with similar amenities shows the proposed fees are reasonable and typical of similar sites in the area.

DATES: If approved, the new fees would be implemented no earlier than six months following the publication of this notice in the Federal Register.

ADDRESSES: Prescott National Forest, 344 S Cortez St., Prescott, AZ 86303.

FOR FURTHER INFORMATION CONTACT: Julie Rowe, Recreation Program Manager, 928-856-2687 or julie.rowe@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

This proposal includes new fees at two recreation rentals: Mingus Mountain and Palace Station Cabin for $100 per night. In addition, this proposal would implement a $75 per night for a group size of 50 people at Mingus Mountain Group Campground.

A $5 Day-use fee per vehicle is being proposed at Mingus Campground Vista B and Summit Day use sites. The Prescott National Forest Pass and the full suite of interagency passes will be honored at these new Forest Service Day use sites.

New fees would provide increased visitor opportunities, as well as increased staffing to address operations and maintenance needs and enhance customer service. Once public involvement is complete, these new fees will be reviewed by a Recreation Resource Advisory Committee prior to a final decision and implementation.

Advanced reservations for the group campground and cabins will be available through www.recreation.gov or by calling 1-877-444-6777. The reservation service charges an $8.00 fee for reservations.

Dated: August 1, 2022.
Sandra Watts,
Acting Associate Deputy Chief, National Forest System.

[FR Doc. 2022-16767 Filed 8-4-22; 8:45 am]

BILLING CODE 3411-15-P